POSTAL SERVICE

39 CFR Part 20

International Mailing Services: Approved Price Changes

AGENCY: Postal Service™.

ACTION: Notice of approval of price changes for international mailing services.

SUMMARY: On Friday, January 23, 2015, the Postal Service published a notice in the Federal Register of proposed price adjustments to international mailing services, to reflect a notice of price adjustments that we filed with the Postal Regulatory Commission (PRC) on January 15, 2015. The PRC has found that price adjustments contained in the Postal Service's notice may go into effect on May 31, 2015. The Postal Service will revise Notice 123, Price List to reflect the new prices.

DATES: Effective: May 31, 2015.

FOR FURTHER INFORMATION CONTACT: Paula Rabkin at 202-268-2537.

SUPPLEMENTARY INFORMATION:

I. Proposed Rule and Response

On January 15, 2015, the Postal Service filed a notice of international mailing services price adjustment with the PRC, effective on April 26, 2015. On January 23, 2015, the USPS™ published a notice of proposed price changes in the Federal Register entitled “International Mailing Services: Proposed Price Changes” (80 FR 3536). The notice included price changes that we would adopt for products and services covered by Mailing Standards of the United States Postal Service, International Mail Manual (IMM®) and publish in Notice 123, Price List, on Postal Explorer® at pe.usps.com. We received one comment, simply requesting no price change.

II. Decision of the Postal Regulatory Commission

As prescribed in the PRC's Order No.2365, issued on February 24, 2015, Order No. 2388, issued on March 10, 2015, and Order No. 2461, issued on April 30, 2015, in Docket No. R2015-4, the PRC found that the prices in the Postal Service's notice that was published on January 23, 2015, may go into effect on May 31, 2015. The new prices will accordingly be posted in Notice 123, on Postal Explorer at pe.usps.com.

Stanley F. Mires,
Attorney, Federal Requirements.

[FR Doc. 2015-11068 Filed 5-7-15; 8:45 am]

BILLING CODE 7710-12-P